SMALL BUSINESS ADMINISTRATION

[Declaration of Disaster #3265]

State of Texas

Tarrant County and the contiguous counties of Dallas, Denton, Ellis, Johnson, Parker, and Wise in the State of Texas constitute a disaster area as a result of damages caused by severe thunderstorms and flooding that occurred on June 3-4, 2000. Applications for loans for physical damage as a result of this disaster may be filed until the close of business on August 18, 2000 and for economic injury until the close of business on March 19, 2001 at the address listed below or other locally announced locations:

U.S. Small Business Administration, Disaster Area 3 Office, 4400 Amon Carter Blvd., Suite 102, Ft. Worth, TX 76155.

The interest rates are:

| Percent
For Physical Damage:
Homeowners With Credit Available Elsewhere | 7.375
Homeowners Without Credit Available Elsewhere | 3.687
Businesses With Credit Available Elsewhere | 8.000
Businesses and Non-Profit Organizations Without Credit Available Elsewhere | 4.000
Others (Including Non-Profit Organizations) With Credit Available Elsewhere | 6.750
For Economic Injury Businesses and Small Agricultural Cooperatives Without Credit Available Elsewhere | 4.000

The numbers assigned to this disaster are 326511 for physical damage and 9H5500 for economic injury.

(Catalog of Federal Domestic Assistance Program Nos. 59002 and 59008).
Dated: June 19, 2000.
Kris Swedin,
Acting Administrator.

[FR Doc. 00-16109 Filed 6-23-00; 8:45 am]

BILLING CODE 8025-01-P